DEPARTMENT OF ENERGY

Federal Energy Regulatory Commission

[Docket No.CP07-430-002]

Kinder Morgan Interstate Gas Transmission LLC; Notice of Filing

July 28, 2008.

Take notice that on July 25, 2008, Kinder Morgan Interstate Gas Transmission LLC (Kinder Morgan) whose mailing address is P.O. Box 281304, Lakewood, Colorado 80228-8304, filed an application, pursuant to Section 7(c) of the Natural Gas Act (NGA), and Part 157 of the Commission's Rules and Regulations, requesting authorization to revise initial incremental transportation rates on its Colorado Lateral Expansion Project in Weld County, Colorado (Project). The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659.

Kinder Morgan requests the Commission's authorization to revise its firm and interruptible incremental transportation rates for the Project approved in the February 21, 2007, order. The amendment reflects an increase of $5,785,659 in the total estimated jurisdictional costs to construct the proposed facilities, from $23,549,557 to $29,335,216. The increased costs are primarily due to higher costs than originally anticipated for materials, labor, engineering and land acquisition.

Any questions regarding the application are to be directed to Robert F. Harrington, Vice President, Regulatory, Kinder Morgan Interstate Gas Transmission LLC, 370 Van Gordon Street, Lakewood, Colorado 80228-8304, phone (303) 763-3258.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: August 11, 2008.

Kimberly D. Bose,
Secretary.

[FR Doc. E8-17878 Filed 8-4-08; 8:45 am]

BILLING CODE 6717-01-P